DEPARTMENT OF STATE

[Public Notice: 10555]

Notice of a Shipping Coordination Committee Meeting

The Department of State will conduct an open meeting at 1 p.m. on October 18, 2018, in Room 6i10-01-c of the Douglas A. Munro Coast Guard Headquarters Building at St. Elizabeth's, 2703 Martin Luther King Jr. Avenue SE, Washington, DC 20593.

The primary purpose of the meeting is to prepare for the 73rd session of the International Maritime Organization's (IMO) Marine Environment Protection Committee to be held at the IMO Headquarters, United Kingdom, October 22-26, 2018.

The agenda items to be considered include:

—Adoption of the agenda

—Decisions of other bodies

—Consideration and adoption of amendments to mandatory instruments

—Harmful aquatic organisms in ballast water

—Air pollution and energy efficiency

—Further technical and operational measures for enhancing the energy efficiency of international shipping

—Reduction of GHG emissions from ships

—Development of an action plan to address marine plastic litter from ships

—Development of measures to reduce risks of use and carriage of heavy fuel oil as fuel by ships in Arctic waters

—Identification and protection of Special Areas, ECAs and PSSAs

—Pollution prevention and response

—Reports of other sub-committees

—Technical cooperation activities for the protection of the marine environment

—Capacity building for the implementation of new measures

—Work program of the Committee and subsidiary bodies

—Application of the Committees' method of work

—Election of the Chair and Vice-Chair

—Any other business

—Consideration of the report of the Committee

Members of the public may attend this meeting up to the seating capacity of the room. Upon request to the meeting coordinator, members of the public may also participate via teleconference, up to the capacity of the teleconference phone line. To access the teleconference line, participants should call (202) 475-4000 and use Participant Code: 887 809 72. To facilitate the building security process, and to request reasonable accommodation, those who plan to attend should contact the meeting coordinator, LCDR Staci Weist, by email at eustacia.y.weist@uscg.mil, by phone at (202) 372-1372, or in writing at 2703 Martin Luther King Jr. Ave. SE Stop 7509, Washington, DC 20593-7509 not later than October 11, 2018, 7 days prior to the meeting. Requests made after October 11, 2018 might not be able to be accommodated. Please note that due to security considerations, two valid, government issued photo identifications must be presented to gain entrance to the Douglas A. Munro Coast Guard Headquarters Building. The Douglas A. Munro Coast Guard Headquarters Building is accessible by taxi, public transportation, and privately owned conveyance (upon request).

Gregory J. O'Brien,
Executive Secretary, Shipping Coordinating Committee, Office of Ocean and Polar Affairs, Department of State.

[FR Doc. 2018-20697 Filed 9-21-18; 8:45 am]

BILLING CODE 4710-09-P